DEPARTMENT OF EDUCATION

34 CFR Parts 655, 656, 657, 658, 660, and 661

[Docket ID ED-2009-OPE-0002]

RIN 1840-AC97

International Education Programs

AGENCY: Office of Postsecondary Education, Department of Education.

ACTION: Final regulations.

SUMMARY: The Secretary amends the regulations for the National Resource Centers Program for Foreign Language and Area Studies or Foreign Language and International Studies (NRC Program), Foreign Language and Area Studies Fellowships (FLAS) Program, Undergraduate International Studies and Foreign Language (UISFL) Program, International Research and Studies (IRS) Program, and the Business and International Education (BIE) Program to ensure that these regulations reflect the changes made to title VI of the Higher Education Act of 1965, as amended (HEA) by the Higher Education Opportunity Act of 2008 (HEOA).

DATES: Effective Date: These regulations are effective on August 17, 2009.

FOR FURTHER INFORMATION CONTACT: Jessica Finkel, U.S. Department of Education, 1990 K Street, NW., Room 8031, Washington, DC 20006-8502. Telephone: (202) 502-7647 or via the Internet at: Jessica.Finkel@ed.gov.

If you use a telecommunications device for the deaf (TDD), you may call the Federal Relay Service (FRS), toll free, at 1-800-877-8339.

Individuals with disabilities can obtain this document in an accessible format (e.g., braille, large print, audiotape, or computer diskette) on request to the contact person listed in this section.

SUPPLEMENTARY INFORMATION: These final regulations incorporate changes made to the HEA by the HEOA. These changes align the program regulations with the changes made to the programs by the HEOA, including revised program descriptions, eligibility criteria, and activities.

The following discussion describes each of the changes made to the regulations and the specific statutory change in the HEA on which the regulatory change is based.

General

Statute: The HEOA amended numerous sections of the HEA to refer to “consortia” of institutions of higher education rather than “combinations” of institutions of higher education. Specifically, section 610 of the HEOA amended sections 603(a) and 604(a)(5) of the HEA by replacing the word “combination” with the word “consortium” each time it appears. Similarly, section 602(1) of the HEOA amended section 602(a)(1) of the HEA by replacing the word “combination” with the word “consortium.” Finally, section 604(1) of the HEOA amended section 604(a)(1) of the HEA by replacing references to the words “combination” and “combinations” with the words “consortium” and “consortia,” respectively.

Regulatory Change: To better reflect the language in the statute, we have revised the following regulatory sections to refer to “consortium” and “consortia” (as appropriate) rather than “combination” and “combinations”: 34 CFR 655.4(b), 34 CFR 656.1 and 656.2, 34 CFR 657.2, and 34 CFR 658.1, 658.2, 658.10, 658.30, 658.32, and 658.35.

International Education Programs—General Provisions

Statute: None.

Regulatory Change: We have corrected two errors in part 655. First, in § 655.4(b), we have replaced the words “definition applies” with the words “definitions apply” because that paragraph provides definitions for multiple terms. Second, we have corrected the language in § 655.10 to identify the appropriate subparts of 34 CFR parts 656, 657, 658, 660, 661 and 669 that describe the kinds of projects that the Secretary assists under the International Education Programs.

NRC Program

Statute: Section 602(1)(B)(iii) of the HEOA amended section 602(a)(2) of the HEA by expanding the types of activities for which grantees may use funds under the National Language and Area Centers and Programs authority. The Department operates the NRC Program under this authority.

Regulatory Change: In the NRC Program regulations, we have expanded § 656.3 to include the activities added to section 602(a)(2) of the HEA by the HEOA. As amended, § 656.3 now states that a comprehensive or undergraduate National Resource Center (i) supports instructors of the less commonly taught languages, and (ii) encourages projects that support students in the science, technology, engineering, and mathematics fields to achieve foreign language proficiency.

Statute: Section 602(1)(C) of the HEOA expanded section 602(a)(4) of the HEA, which describes the outreach and summer institute grants that the Secretary may make to centers and programs under the NRC Program.

Regulatory Change: We have amended § 656.5 to incorporate the new activities that may be funded by an outreach or summer institute grant under section 602(a)(4) of the HEA. Consistent with the statutory changes made, we have added a new § 656.5(b)(3) to clarify that the Secretary may support a center for the purpose of linkage or outreach between or among postsecondary programs or departments in foreign language, area studies, or other international fields, and State educational agencies and local educational agencies.

Statute: Section 607(2) of the HEOA amended section 607(b) of the HEA to add two factors to be considered by the Secretary when awarding grants under section 602 of the HEA, governing the NRC and FLAS programs. Specifically, section 607(2) directs the Secretary to (1) take into account the degree to which activities of centers, programs, and fellowships at institutions of higher education address national needs, and generate information for and disseminate information to the public and (2) consider an applicant's record of placing students into post-graduate employment, education, or training in areas of national need and an applicant's stated efforts to increase the number of such students that go into such placements.

Regulatory Change: In the NRC Program regulations, we have added the two new selection criteria as paragraphs (3) and (4) in §§ 656.21(c) and 656.22(c). We have also added the two new criteria as paragraphs (3) and (4) in § 657.21(c) in the FLAS Program regulations.

FLAS Program

Statute: Section 602(2)(B) of the HEOA amended section 602(b)(2) of the HEA to provide that undergraduate students, in addition to graduate students, may be eligible for fellowships under the FLAS Program.

Regulatory Change: Consistent with the statutory changes made to section 602(b)(2) of the HEA, we have amended §§ 657.1(a), 657.3, and 657.21 to clarify that both graduate students and undergraduate students are eligible for fellowships under the FLAS Program. The changes made to § 657.3 (Who is eligible to receive a fellowship?) incorporate the statutory language reflected in section 602(b)(2) of the HEA and describe the respective activities in which an undergraduate student and graduate student must engage in order to be eligible for a FLAS fellowship.

Statute: Section 602(3) of the HEOA amended section 602(d) of the HEA, which describes the allowances that may be included in a fellowship to an undergraduate or graduate student under the FLAS Program.

Regulatory Change: We have revised § 657.31(a)(4) to better align the regulatory language regarding allowances for stipends awarded to graduate level recipients with the statutory language describing these allowances. We also have added a new § 657.31(a)(5) to provide, consistent with section 602(d)(2) of the HEA, that a stipend awarded to an undergraduate level recipient may include an allowance for educational programs in the United States or educational programs abroad that meet certain criteria.

UISFL Program

Statute: Section 604(2) of the HEOA amended section 604(a)(2) of the HEA by adding a new allowed use of funds under the (UISFL) Program and by amending an existing allowed use of funds.

Regulatory Change: We have amended § 658.11 to reflect the additional activities for which funds may be used under the Undergraduate International Studies and Foreign Language Program. Specifically, we have revised the language in § 658.11(b)(5) to better align with the statutory language describing the pre-service teacher training and in-service teacher professional development that can be conducted under the program. Also, in new § 658.11(j), consistent with the additions made to section 604(a)(2) of the HEA, we have added as an allowable activity the provision of grants for educational programs abroad that are closely linked to the UISFL Program's goals and that promote foreign language fluency and knowledge of world regions.

Statute: Section 604(6) of the HEOA amended section 604 of the HEA by adding a new paragraph (c)(2) to specify that UISFL Program grantees may not use more than ten percent of the funds received under a UISFL Program grant for the purpose described in section 604(a)(2)(I) of the HEA (i.e., providing grants for educational programs abroad that are closely linked to the UISFL Program's goals and that promote foreign language fluency and knowledge of world regions).

Regulatory Change: We have amended § 658.40 by adding a new paragraph (b) to incorporate this restriction on the use of funds.

Statute: Section 604(3) of the HEOA amended section 604(a)(4)(B) of the HEA to require institutions seeking a waiver or reduction of their non-Federal share to demonstrate, in their grant applications, their need for a waiver or reduction.

Regulatory Change: We have revised § 658.41(d)(2) to clarify that the Secretary may waive or reduce a UISFL Program grantee's non-Federal share for the project, but that the grantee's application must demonstrate a need for a waiver or reduction.

IRS Program

Statute: Section 605 of the HEOA amended section 605(a) of the HEA by expanding the activities authorized under the IRS Program. Research and studies supported under the IRS Program now include: (i) Evaluations of the extent to which programs assisted under title VI of the HEA reflect diverse perspectives and a wide range of views and generate debate on world regions and international affairs, as described in the grantee's application; (ii) the systematic collection, analysis, and dissemination of data that contribute to achieving the purposes of title VI, part A of the HEA; and (iii) support for programs or activities to make data collected, analyzed, or disseminated under this part publicly available and easy to understand.

Regulatory Change: We have amended §§ 660.1 and 660.10 to include these newly authorized activities. The new activities are listed in paragraphs (j), (k), and (l) of § 660.1 (What is the International Research and Studies Program?) and in paragraphs (k), (l), and (m) of § 660.10 (What activities does the Secretary assist?).

BIE Program

Statute: Section 611(b) of the HEOA amended section 613(c) of the HEA to require applicants to provide an assurance that, where applicable, the activities funded by a grant made under the BIE Program will reflect diverse perspectives and a wide range of views on world regions and international affairs.

Regulatory Change: We have amended § 661.20 by adding a new paragraph (c) to require applicants to make this assurance in their applications for funding under the BIE Program.

Executive Order 12866

Under Executive Order 12866, the Secretary must determine whether this regulatory action is “significant” and therefore subject to the requirements of the Executive order and review by OMB. Section 3(f) of Executive Order 12866 defines a “significant regulatory action” as an action likely to result in a rule that may (1) have an annual effect on the economy of $100 million or more, or adversely affect a sector of the economy, productivity, competition, jobs, the environment, public health or safety, or State, local or tribal governments, or communities in a material way (also referred to as an “economically significant” rule); (2) create serious inconsistency or otherwise interfere with an action taken or planned by another agency; (3) materially alter the budgetary impacts of entitlement grants, user fees, or loan programs or the rights and obligations of recipients thereof; or (4) create novel legal or policy issues arising out of legal mandates, the President's priorities, or the principles set forth in the Executive order. The Secretary has determined that this regulatory action is not significant under the Executive order.

Potential Costs and Benefits

Under Executive Order 12866, we have assessed the potential costs and benefits of this regulatory action.

The potential costs associated with these final regulations are those resulting from statutory requirements for these discretionary grant programs. However, because the Secretary has chosen to regulate only to the extent necessary to reflect changes made to the HEA by the HEOA, the potential costs associated with the regulations are minimal. The benefits of these final regulations will be clarification of the requirements governing these programs that will facilitate future competitions for awards under these programs. In assessing these costs and benefits we have determined that the benefits justify the costs.

We also have determined that this regulatory action does not unduly interfere with State, local, and tribal governments in the exercise of their governmental functions.

Waiver of Proposed Rulemaking

Under the Administrative Procedure Act (APA) (5 U.S.C. 553), the Department is generally required to publish a notice of proposed rulemaking and provide the public with an opportunity to comment on proposed regulations prior to issuing final regulations. However, the APA provides that an agency is not required to conduct notice-and-comment rulemaking when the agency for good cause finds that notice and comment are impracticable, unnecessary or contrary to the public interest. These regulations reflect statutory changes made to the HEA by the HEOA that are already effective and do not establish or affect existing policy. Therefore, under 5 U.S.C. 553(b)(B), the Secretary has determined that a notice of proposed rulemaking is unnecessary and contrary to the public interest and thus not required with regard to these regulations.

Regulatory Flexibility Act Certification

The Secretary certifies that these regulations will not have a significant economic impact on a substantial number of small entities. The regulations impose minimal requirements to ensure the proper expenditure of program funds.

Paperwork Reduction Act of 1995

These regulations do not contain any information collection requirements.

Intergovernmental Review

The National Resource Centers Program, Foreign Language and Area Studies Fellowships Program, Undergraduate International Studies and Foreign Language Program, and Business and International Education Program are subject to Executive Order 12372 and the regulations in 34 CFR part 79. One of the objectives of the Executive Order is to foster an intergovernmental partnership and a strengthened federalism. The Executive Order relies on processes developed by State and local governments for coordination and review of proposed Federal financial assistance.

Assessment of Educational Impact

In accordance with section 411 of the General Education Provisions Act, 20 U.S.C. 1221e-4, and based on our own review, we have determined that these regulations do not require transmission of information that any other agency or authority of the United States gathers or makes available.

Electronic Access to This Document

You can view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Numbers: 84.015 National Resource Centers Program for Foreign Language and Area Studies or Foreign Language and International Studies Program and Foreign Language and Area Studies Fellowships Program; 84.016 Undergraduate International Studies and Foreign Language Program; 84.017 The International Research and Studies Program; 84.153 Business and International Education Program)

List of Subjects

34 CFR Part 655

Colleges and universities, Cultural exchange programs, Educational research, Educational study programs, Grant programs—education, Scholarships and fellowships.

34 CFR Part 656

Colleges and universities, Cultural exchange programs, Educational study programs, Grant programs—education, Reporting and recordkeeping requirements.

34 CFR Part 657

Colleges and universities, Cultural exchange programs, Educational study programs, Grant programs—education, Reporting and recordkeeping requirements, Scholarships and fellowships.

34 CFR Part 658

Colleges and universities, Cultural exchange programs, Educational study programs, Grant programs—education.

34 CFR Part 660

Colleges and universities, Cultural exchange programs, Educational research, Educational study programs, Grant programs—education.

34 CFR Part 661

Business and industry, Colleges and universities, Educational study programs, Grant programs—education, Student aid.

Dated: July 13, 2009.
Arne Duncan,
Secretary of Education.

For the reasons discussed in the preamble, the Secretary amends parts 655, 656, 657, 658, 660, and 661 of title 34 of the Code of Federal Regulations as follows:

PART 655—INTERNATIONAL EDUCATION PROGRAMS—GENERAL PROVISIONS

1. The authority citation for part 655 continues to read as follows:

Authority: 20 U.S.C. 1121-1130b, unless otherwise noted.

§ 655.4 [Amended]

2. Section 655.4(b) is amended by:

A. In the introductory text, removing the words “definition applies” and adding, in their place, the words “definitions apply”.

B. In the definition for “Combination of institutions,” removing the word “Combination” and adding, in its place, the word “Consortium”.

3. Section 655.10 is revised to read as follows:

§ 655.10 What kinds of projects does the Secretary assist?

Subpart A of 34 CFR parts 656, 657, and 669 and subpart B of 34 CFR parts 658, 660, 661 describe the kinds of projects that the Secretary assists under the International Education Programs.

(Authority: 20 U.S.C. 1121-1127)

PART 656—NATIONAL RESOURCE CENTERS PROGRAM FOR FOREIGN LANGUAGE AND AREA STUDIES OR FOREIGN LANGUAGE AND INTERNATIONAL STUDIES

4. The authority citation for part 656 continues to read as follows:

Authority: 20 U.S.C. 1122, unless otherwise noted.

§ 656.1 [Amended]

5. Section 656.1 is amended in the introductory text by removing the word “combinations” and adding, in its place, the word “consortia”.

§ 656.2 [Amended]

6. Section 656.2 is amended by removing the word “combination” and adding, in its place, the word “consortium”.

7. Section 656.3 is amended by:

A. Removing the word “and” at the end of paragraph (g).

B. Removing the punctuation “.” at the end of paragraph (h) and adding, in its place, the punctuation “;”.

C. Adding new paragraphs (i) and (j).

The additions read as follows:

§ 656.3 What activities define a comprehensive or undergraduate National Resource Center?

* * * * *

(i) Supports instructors of the less commonly taught languages; and

(j) Encourages projects that support students in the science, technology, engineering, and mathematics fields to achieve foreign language proficiency.

* * * * *

8. Section 656.5 is amended by:

A. Redesignating paragraphs (b)(3), (b)(4), and (b)(5) as paragraphs (b)(4), (b)(5), and (b)(6), respectively.

B. Adding a new paragraph (b)(3).

C. Revising newly redesignated paragraph (b)(4).

D. Revising newly redesignated paragraph (b)(6).

The revisions and additions read as follows:

§ 656.5 What activities may be carried out?

* * * * *

(b) * * *

(3) Linkage or outreach between or among—

(i) Postsecondary programs or departments in foreign language, area studies, or other international fields; and

(ii) State educational agencies or local educational agencies.

(4) Partnerships or programs of linkage and outreach with departments or agencies of Federal and State governments, including Federal or State scholarship programs for students in related areas.

* * * * *

(6) Summer institutes in area studies, foreign Language, and other international fields designed to carry out the activities in paragraphs (b)(1) through (b)(5) of this section.

9. Section 656.21 is amended by:

A. Removing the word “and” at the end of paragraph (c)(1).

B. Removing the punctuation “.” at the end of paragraph (c)(2) and adding, in its place, the punctuation “;”.

C. Adding new paragraphs (c)(3) and (c)(4).

The additions read as follows:

§ 656.21 What selection criteria does the Secretary use to evaluate an application for a comprehensive Center?

* * * * *

(c) * * *

(3) The degree to which activities of the Center address national needs, and generate information for and disseminate information to the public; and

(4) The applicant's record of placing students into post-graduate employment, education, or training in areas of national need and the applicant's stated efforts to increase the number of such students that go into such placements.

* * * * *

10. Section 656.22 is amended by:

A. Removing the word “and” at the end of paragraph (c)(1).

B. Removing the punctuation “.” at the end of paragraph (c)(2), and adding, in its place, the punctuation “;”.

C. Adding new paragraphs (c)(3) and (c)(4).

The additions read as follows:

§ 656.22 What selection criteria does the Secretary use to evaluate an application for an undergraduate Center?

* * * * *

(c) * * *

(3) The degree to which activities of the Center address national needs, and generate information for and disseminate information to the public; and

(4) The applicant's record of placing students into post-graduate employment, education, or training in areas of national need and the applicant's stated efforts to increase the number of such students that go into such placements.

* * * * *

PART 657—FOREIGN LANGUAGE AND AREA STUDIES FELLOWSHIPS PROGRAM

11. The authority citation for part 657 continues to read as follows:

Authority: 20 U.S.C. 1122, unless otherwise noted.

§ 657.1 [Amended]

12. Section 657.1 is amended by adding the words “undergraduate or” before the word “graduate” in paragraph (a).

§ 657.2 [Amended]

13. Section 657.2 is amended by removing the word “combination” in paragraph (a) introductory text and adding, in its place, the word “consortium”.

14. Section 657.3 is amended by:

A. Removing the word “and” at the end of paragraph (c).

B. Removing the punctuation “.” at the end of paragraph (d) and adding, in its place, the punctuation “;”.

C. Adding new paragraphs (e) and (f).

The additions read as follows:

§ 657.3 Who is eligible to receive a fellowship?

* * * * *

(e) In the case of an undergraduate student, is in the intermediate or advanced study of a less commonly taught language; or

(f) In the case of a graduate student, is engaged in—

(1) Predissertation level study;

(2) Preparation for dissertation research;

(3) Dissertation research abroad; or

(4) Dissertation writing.

* * * * *

15. Section 657.21 is amended by:

A. Adding the words “undergraduate and” before the word “graduate” in paragraph (c)(1).

B. Removing the word “and” at the end of paragraph (c)(1).

C. Removing the punctuation “.” at the end of paragraph (c)(2), and adding, in its place, the punctuation “;”.

D. Adding new paragraphs (c)(3) and (c)(4).

E. Removing the word “graduate” from paragraphs (d)(2), (e)(1), (f)(4) and (h)(1).

The additions read as follows:

§ 657.21 What criteria does the Secretary use in selecting institutions for an allocation of fellowships?

* * * * *

(c) * * *

(3) The degree to which fellowships awarded by the applicant address national needs; and

(4) The applicant's record of placing students into post-graduate employment, education, or training in areas of national need and the applicant's stated efforts to increase the number of such students that go into such placements.

* * * * *

16. Section 657.31 is amended by:

A. Revising paragraph (a)(4).

B. Adding a new paragraph (a)(5).

The revisions and addition read as follows:

§ 657.31 What is the amount of a fellowship?

(a) * * *

(4) If permitted by the Secretary, a stipend awarded to a graduate level recipient may include allowances for dependents and travel for research and study in the United States and abroad.

(5) A stipend awarded to an undergraduate level recipient may include an allowance for educational programs in the United States or educational programs abroad that—

(i) Are closely linked to the overall goals of the recipient's course of study; and

(ii) Have the purpose of promoting foreign language fluency and knowledge of foreign cultures.

* * * * *

PART 658—UNDERGRADUATE INTERNATIONAL STUDIES AND FOREIGN LANGUAGE PROGRAM

17. The authority citation for part 658 continues to read as follows:

Authority: 20 U.S.C. 1124, unless otherwise noted.

§ 658.1 [Amended]

18. Section 658.1 is amended by removing the word “combinations” each time it appears and adding, in its place, the word “consortia”.

§ 658.2 [Amended]

19. Section 658.2(b) is amended by removing the word “combinations” and adding, in its place, the word “consortia”.

§ 658.10 [Amended]

20. Section 658.10(a) is amended by:

A. Removing the word “combination” and adding, in its place, the word “consortium”.

B. Removing the word “combinations” and adding, in its place, the word “consortia”.

21. Section 658.11 is amended by:

A. Revising paragraph (b)(5).

B. Redesignating paragraphs (j), (k), (l), and (m) as paragraphs (k), (l), (m), and (n), respectively.

C. Adding a new paragraph (j).

The additions and revisions read as follows:

§ 658.11 What projects and activities may a grantee conduct under this program?

* * * * *

(b) * * *

(5) Conducting pre-service teacher training and in-service teacher professional development;

* * * * *

(j) Providing grants for educational programs abroad that—

(1) Are closely linked to the program's overall goals; and

(2) Have the purpose of promoting foreign language fluency and knowledge of world regions;

* * * * *

§ 658.30 [Amended]

22. Section 658.30(a) is amended by removing the word “combination” and adding, in its place, the word “consortium”.

§ 658.32 [Amended]

23. Section 658.32, introductory text, is amended by removing the word “combination” and adding, in its place, the word “consortium”.

§ 658.35 [Amended]

24. Section 658.35(a) is amended by removing the word “combinations” and adding, in its place, the word “consortia”.

25. Section 658.40 is revised to read as follows:

§ 658.40 What are the limitations on allowable costs?

(a) Equipment costs may not exceed five percent of the grant amount; and

(b) No more than ten percent of the total amount of grant funds awarded to a grantee under this part may be used for the activity described in § 658.11(j).

(Authority: 20 U.S.C. 1124)

26. Section 658.41(d)(2) is revised to read as follows:

§ 658.41 What are the cost-sharing requirements?

* * * * *

(d) * * *

(2) Have submitted a grant application under this part that demonstrates a need for a waiver or reduction.

* * * * *

PART 660—THE INTERNATIONAL RESEARCH AND STUDIES PROGRAM

27. The authority citation for part 660 continues to read as follows:

Authority: 20 U.S.C. 1125, unless otherwise noted.

28. Section 660.1 is amended by:

A. Removing the word “and” at the end of paragraph (h).

B. Removing the punctuation“.” at the end of paragraph (i) and adding, in its place, the punctuation “;”.

C. Adding new paragraphs (j), (k), and (l).

The additions read as follows:

§ 660.1 What is the International Research and Studies Program?

* * * * *

(j) Evaluations of the extent to which programs assisted under title VI of the HEA reflect diverse perspectives and a wide range of views and generate debate on world regions and international affairs, as described in the grantee's application;

(k) Systematic collection, analysis, and dissemination of data that contribute to achieving the purposes of title VI, part A of the HEA; and

(l) Support for programs or activities to make data collected, analyzed, or disseminated under this part publicly available and easy to understand.

* * * * *

29. Section 660.10 is amended by adding new paragraphs (k), (l) and (m) to read as follows:

§ 660.10 What activities does the Secretary assist?

* * * * *

(k) Evaluations of the extent to which programs assisted under title VI of the HEA reflect diverse perspectives and a wide range of views and generate debate on world regions and international affairs, as described in the grantee's application.

(l) Systematic collection, analysis, and dissemination of data that contribute to achieving the purposes of title VI, part A of the HEA.

(m) Support for programs or activities to make data collected, analyzed, or disseminated under this part publicly available and easy to understand.

* * * * *

PART 661—BUSINESS AND INTERNATIONAL EDUCATION PROGRAM

30. The authority citation for part 661 continues to read as follows:

Authority: 20 U.S.C. 1130a, unless otherwise noted.

31. Section 661.20 is amended by adding a new paragraph (c).

The addition reads as follows:

§ 661.20 What must an application include?

* * * * *

(c) An assurance that, where applicable, the activities funded by the grant will reflect diverse perspectives and a wide range of views on world regions and international affairs.

* * * * *

[FR Doc. E9-16953 Filed 7-16-09; 8:45 am]

BILLING CODE 4000-01-P